DEPARTMENT OF TRANSPORTATION

Federal Aviation Administration

14 CFR Part 39

[Docket No. FAA-2009-0703; Directorate Identifier 2009-NM-093-AD; Amendment 39-16654; AD 2011-08-04]

RIN 2120-AA64

Airworthiness Directives; Bombardier, Inc. Model CL-600-2C10 (Regional Jet Series 700, 701 & 702) Airplanes, Model CL-600-2D15 (Regional Jet Series 705) Airplanes, and Model CL-600-2D24 (Regional Jet Series 900) Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

There have been four reports of loose or detached main landing gear torque link apex pin locking plate and the locking plate retainer bolt. This condition could result in torque link apex pin disengagement, heavy vibration during landing, damage to main landing gear components and subsequent main landing gear collapse.

* * * * *

We are issuing this AD to require actions to correct the unsafe condition on these products.

DATES: This AD becomes effective May 18, 2011.

The Director of the Federal Register approved the incorporation by reference of a certain publication listed in this AD as of May 18, 2011.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Craig Yates, Aerospace Engineer, Airframe and Mechanical Systems Branch, ANE-171, FAA, New York Aircraft Certification Office, 1600 Stewart Avenue, Suite 410, Westbury, New York 11590; phone: 516-228-7355; fax: 516-794-5531; e-mail: Craig.Yates@faa.gov.

SUPPLEMENTARY INFORMATION:

Discussion

We issued a supplemental notice of proposed rulemaking (NPRM) to amend 14 CFR part 39 to include an AD that would apply to the specified products. That supplemental NPRM was published in the Federal Register on January 11, 2011 (76 FR 1556). That supplemental NPRM proposed to correct an unsafe condition for the specified products. The MCAI states:

There have been four reports of loose or detached main landing gear torque link apex pin locking plate and the locking plate retainer bolt. This condition could result in torque link apex pin disengagement, heavy vibration during landing, damage to main landing gear components and subsequent main landing gear collapse.

Investigation has determined that incorrect stack-up tolerances of the apex joint or improper installation of the locking plate and apex nut could result in torque link apex pin disengagement. This directive mandates [a one-time detailed] inspection of the torque link apex joint [for correct installation and damage, and corrective actions if necessary] and replacement of the torque link apex nut.

The corrective actions include re-installing parts that are not correctly installed and replacing damaged parts. You may obtain further information by examining the MCAI in the AD docket.

Comments

We gave the public the opportunity to participate in developing this AD. We received no comments on the supplemental NPRM or on the determination of the cost to the public.

Conclusion

We reviewed the available data and determined that air safety and the public interest require adopting the AD as proposed in the supplemental NPRM.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

Based on the service information, we estimate that this AD will affect about 361 products of U.S. registry. We also estimate that it will take about 5 work-hours per product to comply with the basic requirements of this AD. The average labor rate is $85 per work-hour. Based on these figures, we estimate the cost of the AD on U.S. operators to be $153,425, or $425 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-08-04 Bombardier, Inc.: Amendment 39-16654. Docket No. FAA-2009-0703; Directorate Identifier 2009-NM-093-AD.

Effective Date

(a) This airworthiness directive (AD) becomes effective May 18, 2011.

Affected ADs

(b) None.

Applicability

(c) This AD applies to the Bombardier airplanes identified in paragraphs (c)(1) and (c)(2) of this AD, certificated in any category.

(1) Model CL-600-2C10 (Regional Jet Series 700, 701 & 702) airplanes, serial numbers (S/Ns) 10003 and subsequent.

(2) Model CL-600-2D15 (Regional Jet Series 705) airplanes and Model CL-600-2D24 (Regional Jet Series 900) airplanes, S/Ns 15001 and subsequent.

Subject

(d) Air Transport Association (ATA) of America Code 32: Landing gear.

Reason

(e) The mandatory continuing airworthiness information (MCAI) states:

There have been four reports of loose or detached main landing gear torque link apex pin locking plate and the locking plate retainer bolt. This condition could result in torque link apex pin disengagement, heavy vibration during landing, damage to main landing gear components and subsequent main landing gear collapse.

Investigation has determined that incorrect stack-up tolerances of the apex joint or improper installation of the locking plate and apex nut could result in torque link apex pin disengagement. This directive mandates [a one-time detailed] inspection of the torque link apex joint [for correct installation and damage, and corrective actions if necessary] and replacement of the torque link apex nut.

Compliance

(f) You are responsible for having the actions required by this AD performed within the compliance times specified, unless the actions have already been done.

Inspection for Part Number (P/N) and Serial Number (S/N)

(g) For all airplanes identified in paragraphs (c)(1) and (c)(2) of this AD: Within 900 flight hours after the effective date of this AD, inspect the main landing gear (MLG) shock strut assemblies to determine whether an MLG shock strut assembly having P/Ns 49000-11 through 49000-22 inclusive and a S/N 0001 through 0284 inclusive is installed. A review of airplane maintenance records is acceptable in lieu of this inspection if the part and serial numbers of the MLG shock strut assembly can be conclusively determined from that review.

Inspection of the Torque Link Apex Joint

(h) For any MLG shock strut assembly having P/Ns 49000-11 through 49000-22 inclusive and a S/N 0001 through 0284 inclusive found installed during the inspection or records check required by paragraph (g) of this AD: Within 900 flight hours after the effective date of this AD, perform a one-time detailed inspection and all applicable corrective actions on the torque link apex joint, in accordance with Part A of the Accomplishment Instructions of Bombardier Service Bulletin 670BA-32-019, Revision A, dated September 18, 2008, except as provided by paragraph (l) of this AD. Do all applicable corrective actions before further flight.

Replacement or Rework of the Apex Nut

(i) For any MLG shock strut assembly identified during the inspection or records check required by paragraph (g) of this AD: Within 4,500 flight hours after the effective date of this AD, replace or rework the apex nut, in accordance with Part B of the Accomplishment Instructions of Bombardier Service Bulletin 670BA-32-019, Revision A, dated September 18, 2008.

Parts Installation

(j) As of the effective date of this AD, no person may install, on any airplane, a replacement MLG shock strut assembly identified in paragraph (j)(1) or (j)(2) of this AD, unless it has been reworked in accordance with paragraph B. of Part B of the Accomplishment Instructions of Bombardier Service Bulletin 670BA-32-019, Revision A, dated September 18, 2008.

(1) Part numbers 49000-11 through 49000-22 inclusive, and with a serial number in the range of S/Ns 0001 through 0284 inclusive (the serial number can start with “MA,” “MAL,” or “MA-”).

(2) Part numbers 49050-5 through 49050-10 inclusive, and with a serial number in the range of S/Ns 1001 through 1114 inclusive (the serial number can start with “MA,” “MAL,” or “MA-”).

Credit for Actions Accomplished in Accordance With Previous Service Information

(k) Inspections, corrective actions, replacements, and rework accomplished before the effective date of this AD in accordance with Bombardier Service Bulletin 670BA-32-019, dated March 16, 2006, are considered acceptable for compliance with the corresponding actions specified in this AD.

(l) The inspections specified in paragraph (h) of this AD are not required if the actions specified in paragraph (i) of this AD have already been accomplished; or if Bombardier Repair Engineering Order 670-32-11-0022, dated October 22, 2005, or Goodrich Service Concession Request SCR 0056-05, dated October 22, 2005; has been incorporated.

FAA AD Differences

Note 1: The MCAI specifies to inspect only airplanes having certain serial numbers that are part of the MCAI applicability. Because the affected part could be rotated onto any of the airplanes listed in the applicability, this AD requires that the inspection be done on all airplanes. We have coordinated this with the Transport Canada Civil Aviation (TCCA).

Other FAA AD Provisions

(m) The following provisions also apply to this AD:

(1) Alternative Methods of Compliance (AMOCs): The Manager, New York Aircraft Certification Office (ACO), ANE-170, FAA, has the authority to approve AMOCs for this AD, if requested using the procedures found in 14 CFR 39.19. Send information to ATTN: Program Manager, Continuing Operational Safety, FAA, New York ACO, 1600 Stewart Avenue, Suite 410, Westbury, New York 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Special Flight Permits

(n) Special flight permits, as described in Section 21.197 and Section 21.199 of the Federal Aviation Regulations (14 CFR 21.197 and 21.199), are not allowed.

Related Information

(o) Refer to MCAI Canadian Airworthiness Directive CF-2009-20, dated May 1, 2009; and Bombardier Service Bulletin 670BA-32-019, Revision A, dated September 18, 2008; for related information.

Material Incorporated by Reference

(p) You must use Bombardier Service Bulletin 670BA-32-019, Revision A, dated September 18, 2008, to do the actions required by this AD, unless the AD specifies otherwise.

(1) The Director of the Federal Register approved the incorporation by reference of this service information under 5 U.S.C. 552(a) and 1 CFR part 51.

(2) For service information identified in this AD, contact Bombardier, Inc., 400 Cote-Vertu Road West, Dorval, Quebec H4S 1Y9, Canada; phone: 514-855-5000; fax: 514-855-7401; e-mail: thd.crj@aero.bombardier.com; Internet: http://www.bombardier.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on March 23, 2011.
Kalene C. Yanamura,
Acting Manager, Transport Airplane Directorate, Aircraft Certification Service.

[FR Doc. 2011-8196 Filed 4-12-11; 8:45 am]

BILLING CODE 4910-13-P